DEPARTMENT OF COMMERCE

International Trade Administration

[A-570-893]

Certain Frozen Warmwater Shrimp From the People's Republic of China: Final Results of Administrative Review; 2011-2012

AGENCY: Import Administration, International Trade Administration, Department of Commerce.

SUMMARY: On March 12, 2013, the Department of Commerce (“Department”) published the Preliminary Results of the administrative review of the antidumping duty order on certain frozen warmwater shrimp (“shrimp”) from the People's Republic of China (“PRC”), covering the period of review (“POR”) from February 1, 2011, through January 31, 2012.¹ On May 20, 2013, the Department issued a post-preliminary analysis of Zhanjiang Regal Integrated Marine Resources Co., Ltd. (“Regal”) and preliminarily determined that Regal is eligible for a company-specific revocation.²

¹ See Certain Frozen Warmwater Shrimp from the People's Republic of China: Preliminary Results of Administrative Review; 2011-2012, 78 FR 15696 (March 12, 2013) (“Preliminary Results”).

² See Memorandum To: Paul Piquado, Assistant Secretary, Import Administration, From: Christian Marsh, Deputy Assistant Secretary for Antidumping and Countervailing Duty Operations, Subject: 11/12 Antidumping Duty Administrative Review on Certain Frozen Warm water Shrimp from the People's Republic of China: Post-Preliminary Analysis for Zhanjiang Regal Integrated Marine Resources Co., Ltd., and Zhanjiang Newpro Foods Co., Ltd., dated May 20, 2013 (“Post-Prelim Analysis Memo”).

The Department has determined to revoke the order with respect to Regal. Additionally, the Department continues to find that Hilltop International ³ and that Zhanjiang Newpro Foods Co., Ltd. (“Newpro”) are part of the PRC-wide entity. The final dumping margins are listed below in the “Final Results of the Administrative Review” section of this notice.

³ As in past reviews, Hilltop reported in its Section A response that it is part of an affiliated group of companies that includes Yangjiang City Yelin Hoitat Quick Frozen Seafood Co., Ltd., Fuqing Yihua Aquatic Food Co., Ltd., Ocean Duke Corporation and Kingston Foods Corporation (collectively, “Hilltop”).

DATES: Effective Date: September 12, 2013.

FOR FURTHER INFORMATION CONTACT: Josh Startup, AD/CVD Operations, Office 9, Import Administration, International Trade Administration, Department of Commerce, 14th Street and Constitution Avenue NW., Washington, DC 20230; telephone: (202) 482-5260.

SUPPLEMENTARY INFORMATION:

Scope of the Order

The merchandise subject to the order is certain frozen warmwater shrimp. The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. The written description of the scope of the order is dispositive. A full description of the scope of the order is available in the accompanying Issues and Decision Memorandum.⁴

⁴ See Memorandum to paul Piquado, Assistant Secretary for Import Administration, From Christian Marsh, Deputy Assistant Secretary for Antidumping and Countervailing Duty Operation, Certain Frozen Warmwater Shrimp from the People's Republic of China: Issues and Decision Memorandum for the Final Results, (“Issues and Decision Memorandum”) dated concurrently with this notice.

Analysis of Comments Received

All issues raised in the case and rebuttal briefs by parties to this review are addressed in the Issues and Decision Memorandum. A list of the issues which parties raised, and to which we respond in the Issues and Decision Memorandum is attached to this notice as an Appendix. The Issues and Decision Memorandum is a public document and is on file electronically via Import Administration's Antidumping and Countervailing Duty Centralized Electronic Service System (“IA ACCESS”). IA ACCESS is available to registered users at http://iaaccess.trade.gov and in the Central Records Unit, Room 7046 of the main Department of Commerce building. In addition, a complete version of the Issues and Decision Memorandum can be accessed directly on the internet at http://www.trade.gov/ia/. The signed Issues and Decision Memorandum and the electronic versions of the Decision Memorandum are identical in content.

Final Determination of No Shipments

In the Preliminary Results the Department found the following companies did not have any reviewable transactions during the POR: Allied Pacific Food (Dalian) Co., Ltd. and Allied Pacific Aquatic Products (Zhanjiang) Co., Ltd. (collectively “Allied Pacific Group”); Shantou Yuexing Enterprise Company; and, Rizhao Smart Foods Co., Ltd.⁵ We have not received any information to contradict this determination. Therefore, the Department is making the final determination that the above-named companies did not have any reviewable entries of subject merchandise during the POR, and will issue appropriate instructions that are consistent with our “automatic assessment” clarification, for these final results.

⁵ See Preliminary Results, 78 FR 15697.

Verification

Pursuant to 19 CFR 351.307(b)(iii) and 19 CFR 351.222(f)(2)(ii), between June 3, 2013 and June 7, 2013, the Department conducted a verification of Regal's sales and factors of production, as well as information relevant to company-specific revocation.⁶

⁶ See Regal Verification Report.

Changes Since the Preliminary Results

The Department has not made any changes to the margin calculations since the Preliminary Results.

Revocation In Part

In the Post-Prelim Analysis Memo, we determined that Regal met the regulatory criteria for revocation set forth in 19 CFR 351.222(b) (2011).⁷ Following the verification of Regal, the Department continues to find that Regal has met all the criteria for revocation and, therefore, we will revoke the order with respect to Regal. Pursuant to 19 CFR 351.222(f)(3), this revocation applies to all entries of subject merchandise that are produced and exported by Regal, and are entered, or withdrawn from warehouse, for consumption on or after February 1, 2012 (i.e., the first day after the period under review). The Department will order the suspension of liquidation lifted for all such entries and will instruct CBP to release any cash deposits or bonds. The Department will further instruct CBP to refund with interest any cash deposits on entries made on or after February 1, 2012.

⁷ The Department recently modified the regulations concerning the revocation of antidumping and countervailing duty orders on a company specific basis, but that modification went into effect after the initiation of this administrative review. See Modification to Regulation Concerning the Revocation of Antidumping and Countervailing Duty Orders, 77 FR 29875 (May 21, 2012).

Newpro's Separate Rate

In the Post-Prelim Analysis Memo, we preliminarily determined that Newpro had not met the necessary criteria to receive a separate rate.⁸ We have not received any information since the issuance of the Post-Preliminary Analysis Memo that provides a basis for reconsidering this determination. Therefore, the Department continues to find that Newpro does not meet the criteria for a separate rate for the final results and Newpro will remain part of the PRC-wide entity.

⁸ See Post-Preliminary Analysis Memo at 7.

Final Results of Review

The Department determines that the following weighted-average dumping margins exist.

Exporter | Weighted average dumping margin (in percent)
Zhanjiang Regal Integrated Marine Resources Co., Ltd. | 0.00
PRC-Wide Entity ⁹ | 112.81

Disclosure and Public Comment

We will disclose the calculations performed within five days of the date of publication of this notice to parties in this proceeding in accordance with 19 CFR 351.224(b).

⁹ Aqua Foods (Qingdao) Co., Ltd., Asian Seafoods (Zhanjiang) Co., Ltd., Beihai Evergreen Aquatic Product Science And Technology Co Ltd, Dalian Hualian Foods Co., Ltd., Dalian Shanhai Seafood Co., Ltd., Dalian Taiyang Aquatic Products Co., Ltd. Dalian Z&H Seafood Co., Ltd., Fujian Chaohui International Trading, Fujian Dongshan County Shunfa Aquatic Product Co., Ltd., Fujian Rongjiang Import and Export Corp., Fuqing Minhua Trade Co., Ltd, Fuqing Yihua Aquatic Food Co., Ltd., Fuqing Yiyuan Trading Co., Ltd., Guangdong Jiahuang Foods Co., Ltd., Guangdong Jinhang Foods Co., Ltd., Guangdong Shunxin Sea Fishery Co. Ltd., Guangdong Wanya Foods Fty. Co., Ltd., Hai Li Aquatic Co., Ltd., Hainan Brich Aquatic Products Co., Ltd., Hainan Hailisheng Food Co., Ltd., Hainan Xiangtai Fishery Co., Ltd., Haizhou Aquatic Products Co., Ltd., Hilltop International, Hua Yang (Dalian) International Transportation Service Co., Kingston Foods Corporation, Maoming Xinzhou Seafood Co., Ltd., Ocean Duke Corporation, Olanya (Germany) Ltd., Qingdao Yuanqiang Foods Co., Ltd., Rizhao Xinghe Foodstuff Co., Ltd., Rui'an Huasheng Aquatic Products Processing Factory, Savvy Seafood Inc., Sea Trade International Inc., Shandong Meijia Group Co., Ltd., Shanghai Linghai Fisheries Trading Co. Ltd., Shanghai Lingpu Aquatic Products Co., Shanghai Smiling Food Co., Ltd., Shanghai Zhoulian Foods Co., Ltd., Shantou Jiazhou Foods Industry, Shantou Jin Cheng Food Co., Ltd., Shantou Longsheng Aquatic Product Foodstuff Co., Ltd., Shantou Ruiyuan Industry Company Ltd., Shantou Wanya Foods Fty. Co., Ltd., Shenzen Allied Aquatic Produce Development Ltd., Shenzhen Yudayuan Trade Ltd., Thai Royal Frozen Food Zhanjiang Co., Ltd., Xiamen Granda Import & Export Co., Ltd., Yancheng Hi-king Agriculture Developing Co., Ltd., Yanfeng Aquatic Product Foodstuff, Yangjiang Anyang Food Co., Ltd., Yangjiang City Yelin Hoi Tat Quick Frozen Seafood Co., Ltd., Yangjiang Wanshida Seafood Co., Ltd., Yelin Enterprise Co., Ltd., Zhangzhou Xinwanya Aquatic Product, Zhangzhou Yanfeng Aquatic Product, Zhanjiang Evergreen Aquatic Product Science and Technology Co., Ltd., Zhanjiang Fuchang Aquatic Products Co., Ltd., Zhanjiang Go Harvest Aquatic Products Co., Ltd., Zhanjiang Haizhou Aquatic Product Co. Ltd., Zhanjiang Hengrun Aquatic Co, Ltd., Zhanjiang Jinguo Marine Foods Co., Ltd., Zhanjiang Join Wealth Aquatic Products Co., Ltd., Zhanjiang Longwei Aquatic Products Industry Co., Ltd., Zhanjiang Newpro Foods Co., Ltd., Zhanjiang Rainbow Aquatic Development, Zhanjiang Universal Seafood Corp., Zhejiang Daishan Baofa Aquatic Products Co., Ltd., Zhejiang Xinwang Foodstuffs Ltd., Zhejiang Zhoufu Food Co., Ltd., Zhoushan Corporation, and Zhoushan Haiwang Seafood Co., Ltd.

Assessment Rates

Upon issuance of these final results, the Department will determine, and U.S. Customs and Border Protection (“CBP”) shall assess, antidumping duties on all appropriate entries covered by this review.¹⁰ The Department intends to issue assessment instructions to CBP 15 days after the publication date of the final results of this review.

¹⁰ See 19 CFR 351.212(b).

We will instruct CBP to assess antidumping duties on all appropriate entries covered by this review. Where either the respondent's weighted-average dumping margin is zero or de minimis, or an importer-specific assessment rate is zero or de minimis, we will instruct CBP to liquidate the appropriate entries without regard to antidumping duties.¹¹

¹¹ See Antidumping Proceedings: Calculation of the Weighted-Average Dumping Margin and Assessment Rate in Certain Antidumping Duty Proceedings; Final Modification for Reviews, 77 FR 8101 (February 14, 2012).

The Department announced a refinement to its assessment practice in non-market economy cases. Pursuant to this refinement in practice, for entries that were not reported in the U.S. sales databases submitted by companies individually examined during this review, the Department will instruct CBP to liquidate such entries at the PRC-wide rate. Additionally, if the Department determines that an exporter had no shipments of the subject merchandise, any suspended entries that entered under that exporter's case number (i.e., at that exporter's rate) will be liquidated at the PRC-wide rate.¹²

¹² See Non-Market Economy Antidumping Proceedings: Assessment of Antidumping Duties, 76 FR 65694 (October 24, 2011).

Cash Deposit Requirements

The following cash deposit requirements will be effective upon publication of the final results of this administrative review for shipments of the subject merchandise from the PRC entered, or withdrawn from warehouse, for consumption on or after the publication date, as provided by sections 751(a)(2)(C) of the Tariff Act of 1930, as amended (“Act”): (1) Because we have revoked the order with respect to subject merchandise produced and exported by Regal, we will instruct CBP to terminate the suspension of liquidation for imports of such merchandise entered, or withdrawn from warehouse, for consumption on or after February 1, 2012, and to refund all cash deposits collected; (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Reimbursement of Duties

This notice also serves as a reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This determination is issued and published in accordance with sections 751(a)(1) and 777(i)(1) of the Act and 19 CFR 351.221(b)(5).

Dated: September 6, 2013.
Paul Piquado,
Assistant Secretary for Import Administration.

Appendix—List of Topics Discussed in the Final Decision Memorandum

1. Respondent Selection

2. India as the Surrogate Country for Regal's AR5 Analysis

3. Market Economy Purchases

4. Surrogate Value for Scrap

5. Regal's Reported Scrap Data

6. Revocation of Regal

7. Hilltop as Part of PRC-Wide Entity

8. Assignment of AFA to the PRC-Wide Entity

[FR Doc. 2013-22226 Filed 9-11-13; 8:45 a.m.]

BILLING CODE 3510-DS-P